DEPARTMENT OF HEALTH AND HUMAN SERVICES

Administration for Children and Families

Proposed Information Collection Activity; Native Employment Works (NEW) Plan Guidance and NEW Program Report (OMB No.: 0970-0174)

AGENCY: Division of Tribal TANF Management, Office of Family Assistance, Administration for Children and Families, HHS.

ACTION: Request for public comment.

SUMMARY: The Administration for Children and Families (ACF) is requesting a 3-year extension of the form OFA-0086: NEW Plan Guidance and NEW Program Report (OMB #0970-0174, expiration 8/31/2022). There are minor changes requested to both documents.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION: Description: The NEW Program Plan Guidance documents specify the information needed to complete a NEW program plan and explain the process for plan submission every third year and to complete the annual program report. The program plan is the application for NEW program funding and documents how the grantee will carry out its NEW program. ACF proposes a change in how draft plans are submitted. The program report provides HHS, Congress, and grantees information to document and assess the activities and accomplishments of the NEW program. ACF proposes to extend data collection with revisions that clarify that programs should not count more than once individuals who meet multiple categories; for example, persons age 20 are both youth and adults, but they should be counted as one or the other, not both.

Respondents: Indian tribes and tribal coalitions that operate NEW programs.

Annual Burden Estimates
Instrument | Total number of respondents (over 3 yrs.) | Annual number of responses per respondent | Average burden hours per response | Annual burden hours
NEW Program Plan Guidance | 40 | ¹ .333 | 29 | 386
NEW Program Report | 40 | 1 | 15 | 600
Total Estimated Annual Burden |  |  |  | 986
¹ We have used .333 responses per year to represent one submission of the NEW Program Plan Guidance during the 3-year approval period.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology.

Consideration will be given to comments and suggestions submitted within 60 days of this publication.

Authority: 42 U.S.C. 612.

Mary B. Jones,
ACF/OPRE Certifying Officer.

[FR Doc. 2022-06271 Filed 3-23-22; 8:45 am]

BILLING CODE 4184-36-P